DEPARTMENT OF COMMERCE

Census Bureau

Agency Information Collection Activities; Submission to the Office of Management and Budget (OMB) for Review and Approval; Comment Request; 2021 New York City Housing and Vacancy Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 13, 2020 during a 60-day comment period. This notice allows for an additional 30 days for public comments.

Due to the COVID-19 pandemic, the start of the New York City Housing and Vacancy Survey (NYCHVS) collection was delayed from November 2020 to February 2021 and the estimated number of respondents was reduced from 30,000 to 12,000. As a result of these changes, the survey reference year was changed from 2020 to 2021 and the estimated respondent burden hours was reduced from 20,000 to 7,804. In addition, new COVID-19 pandemic related questions were added to the instrument. The addition of this new content is not expected to affect the estimated average hours per response because a similar number of questions were removed from the survey.

Agency: U.S. Census Bureau.

Title: 2021 New York City Housing and Vacancy Survey.

OMB Control Number: 0607-0757.

Form Number(s): N/A—Electronic forms.

Type of Request: Reinstatement, with change, of a previously approved collection.

Number of Respondents: 12,000.

Average Hours per Response: 0.66 (40 minutes).

Burden Hours: 7,804.

Needs and Uses: The Census Bureau will conduct the survey for the City of New York in order to determine the vacancy rate of rental housing stock, which the city uses to enact specific policies. New York City will also use the data to help measure the quality of its housing and learn specific demographic characteristics about the city's residents.

Affected Public: Households and rental offices/realtors (for vacant units).

Frequency: every three years.

Respondent's Obligation: Voluntary.

Legal Authority: Title 13 U.S.C.—Section 8b, and the Local Emergency Housing Rent Control Act, Laws of New York (Chapters 8603 and 657).

This information collection request may be viewed at www.reginfo.gov. Follow the instructions to view Department of Commerce collections currently under review by OMB.

Written comments and recommendations for the proposed information collection should be submitted within 30 days of the publication of this notice on the following website <www.reginfo.gov/public/do/PRAMain>. Find this particular information collection by selecting “Currently under 30-day Review—Open for Public Comments” or by using the search function and entering either the title of the collection or the OMB Control Number 0607-0757.

Sheleen Dumas,
Department PRA Clearance Officer, Office of the Chief Information Officer, Commerce Department.

[FR Doc. 2020-23819 Filed 10-27-20; 8:45 am]

BILLING CODE 3510-07-P